DEPARTMENT OF VETERANS AFFAIRS

Advisory Committee on Women Veterans; Notice of Meeting

The Department of Veterans Affairs (VA) gives notice under Public Law 92-463 (Federal Advisory Committee Act) that the Advisory Committee on Women Veterans will meet February 18-20, 2009, in room 230 at VA Central Office, 810 Vermont Avenue, NW., Washington, DC, from 8:30 until 4:30 p.m., each day. The meeting is open to the public.

The purpose of the Committee is to advise the Secretary of Veterans Affairs regarding the needs of women veterans with respect to health care, rehabilitation, compensation, outreach, and other programs and activities administered by VA designed to meet such needs. The Committee makes recommendations to the Secretary regarding such programs and activities.

The agenda will include briefings on the VA claims adjudication process, Project Hero, the Post-9/11 Veterans Educational Assistance Act of 2008, Women Veterans Health Strategic Health Care Group clinical inventory of care, models of care for women veterans, quality and performance, and a visit to Capitol Hill.

Any member of the public wishing to attend should contact Ms. Shannon L. Middleton at the Department of Veterans Affairs, Center for Women Veterans (00W), 810 Vermont Avenue, NW., Washington, DC 20420. Ms. Middleton may be contacted either by phone at (202) 461-6193, fax at (202) 273-7092, or e-mail at 00W@mail.va.gov. Interested persons may attend, appear before, or file statements with the Committee. Written statements must be filed before the meeting, or within 10 days after the meeting.

Dated: December 22, 2008.
By direction of the Secretary.
E. Philip Riggin,
Committee Management Officer.

[FR Doc. E8-31026 Filed 12-29-08; 8:45 am]

BILLING CODE 8320-01-P